DEPARTMENT OF ENERGY

[Case Number 2019-003; EERE-2019-BT-WAV-0007]

Energy Conservation Program: Petition for Waiver of Signify North America Corporation From the Department of Energy Illuminated Exit Signs Test Procedure

AGENCY: Office of Energy Efficiency and Renewable Energy, Department of Energy.

ACTION: Notice of petition for waiver, and request for comments.

SUMMARY: This document announces receipt of and publishes a petition for waiver from Signify North America Corporation (Signify), which seeks a waiver from the U.S. Department of Energy (DOE) test procedure used for determining the energy consumption of specified illuminated exit sign basic models. Signify seeks to use an alternate test procedure to address issues involved in testing the basic models identified in its petition. Signify contends that the design characteristics of its combination illuminated exit sign basic models prevent testing in accordance with the DOE test procedure and suggests an alternate test procedure approved by DOE in a previous waiver for similar equipment. DOE solicits comments, data, and information concerning Signify's petition and its suggested alternate test procedure to inform its decision on Signify's waiver request.

DATES: Written comments and information are requested and will be accepted on or before September 25, 2019.

ADDRESSES: Interested persons are encouraged to submit comments using the Federal eRulemaking Portal at https://www.regulations.gov. Alternatively, interested persons may submit comments, identified by case number “2019-003,” and Docket number “EERE-2019-BT-WAV-0007,” by any of the following methods:

• Federal eRulemaking Portal: https://www.regulations.gov. Follow the instructions for submitting comments.

• Email: Signify2019WAV0007@ee.doe.gov. Include Case No. 2019-003 in the subject line of the message.

• Postal Mail: Appliance and Equipment Standards Program, U.S. Department of Energy, Office of Energy Efficiency and Renewable Energy, Building Technologies Office, Mailstop EE-5B, Petition for Waiver Case No. 2019-003, 1000 Independence Avenue SW, Washington, DC 20585-0121. If possible, please submit all items on a compact disc (“CD”), in which case it is not necessary to include printed copies.

• Hand Delivery/Courier: Appliance and Equipment Standards Program, U.S. Department of Energy, Building Technologies Office, 950 L'Enfant Plaza SW, 6th floor, Washington, DC 20024. If possible, please submit all items on a “CD,” in which case it is not necessary to include printed copies.

No telefacsimilies (faxes) will be accepted. For detailed instructions on submitting comments and additional information on this process, see section V of this document.

Docket: The docket, which includes Federal Register notices, comments, and other supporting documents/materials, is available for review at https://www.regulations.gov. All documents in the docket are listed in the https://www.regulations.gov index. However, some documents listed in the index, such as those containing information that is exempt from public disclosure, may not be publicly available.

The docket web page can be found at https://www.regulations.gov/docket?D=EERE-2019-BT-WAV-0007. The docket web page contains simple instruction on how to access all documents, including public comments, in the docket. See section V for information on how to submit comments through https://www.regulations.gov.

FOR FURTHER INFORMATION CONTACT: Ms. Lucy deButts, U.S. Department of Energy, Office of Energy Efficiency and Renewable Energy, Building Technologies Office, Mailstop EE-5B, 1000 Independence Avenue SW, Washington, DC 20585-0121. Email: AS_Waiver_Requests@ee.doe.gov. Mr. Jennifer Tiedeman, U.S. Department of Energy, Office of the General Counsel, Mail Stop GC-33, Forrestal Building, 1000 Independence Avenue SW, Washington, DC 20585-0103. Telephone: (202)-287-6111. Email: Jennifer.Tiedeman@hq.doe.gov.

SUPPLEMENTARY INFORMATION:

I. Background and Authority

The Energy Policy and Conservation Act of 1975, as amended (“EPCA”),¹ authorizes the U.S. Department of Energy (“DOE”) to regulate the energy efficiency of a number of consumer products and industrial equipment. (42 U.S.C. 6291-6317) Title III, Part B ² of EPCA established the Energy Conservation Program for Consumer Products Other Than Automobiles, which sets forth a variety of provisions designed to improve energy efficiency for certain types of consumer products. These products include illuminated exit signs, the focus of this document. (42 U.S.C. 6291(37); 42 U.S.C. 6295(w))

¹ All references to EPCA in this document refer to the statute as amended through America's Water Infrastructure Act of 2018, Public Law 115-270 (October 23, 2018).

² For editorial reasons, upon codification in the U.S. Code, Part B was redesignated as Part A.

Under EPCA, DOE's energy conservation program consists essentially of four parts: (1) Testing, (2) labeling, (3) Federal energy conservation standards, and (4) certification and enforcement procedures. Relevant provisions of EPCA include definitions (42 U.S.C. 6291), energy conservation standards (42 U.S.C. 6295), test procedures (42 U.S.C. 6293), labeling provisions (42 U.S.C. 6294), and the authority to require information and reports from manufacturers (42 U.S.C. 6296).

The Federal testing requirements consist of test procedures that manufacturers of covered products must use as the basis for: (1) Certifying to DOE that their products comply with the applicable energy conservation standards adopted pursuant to EPCA (42 U.S.C. 6295(s)), and (2) making representations about the efficiency of that product (42 U.S.C. 6293(c)). Similarly, DOE must use these test procedures to determine whether the product complies with relevant standards promulgated under EPCA. (42 U.S.C. 6295(s))

Under 42 U.S.C. 6293, EPCA sets forth the criteria and procedures DOE is required to follow when prescribing or amending test procedures for covered products. EPCA requires that any test procedures prescribed or amended under this section must be reasonably designed to produce test results which reflect the energy efficiency, energy use or estimated annual operating cost of a covered product during a representative average use cycle or period of use and requires that test procedures not be unduly burdensome to conduct. (42 U.S.C.6293(b)(3)) The test procedure for illuminated exit signs is contained in the Code of Federal Regulations (“CFR”) at 10 CFR 431.204, “Uniform test method for the measurement of energy consumption of illuminated exit signs.” ³

³ Although illuminated exit signs are covered products pursuant to EPCA, as a matter of administrative convenience and to minimize confusion among interested parties, DOE codified illuminated exit sign provisions into subpart L of 10 CFR part 431 (the portion of DOE's regulations dealing with commercial and industrial equipment) because typically businesses, rather than individuals, purchase them. 70 FR 60407, 60409 (Oct. 18, 2005). DOE refers to illuminated exit signs as either “products” or “equipment.”

Under 10 CFR 431.401, any interested person may submit a petition for waiver from DOE's test procedure requirements. DOE will grant a waiver from the test procedure requirements if DOE determines either that the basic model for which the waiver was requested contains a design characteristic that prevents testing of the basic model according to the prescribed test procedures, or that the prescribed test procedures evaluate the basic model in a manner so unrepresentative of its true energy consumption characteristics as to provide materially inaccurate comparative data. 10 CFR 431.401(f)(2). A petitioner must include in its petition any alternate test procedures known to the petitioner to evaluate the basic model in a manner representative of its energy consumption characteristics. 10 CFR 431.401(b)(1)(iii).

DOE may grant the waiver subject to conditions, including adherence to alternate test procedures. 10 CFR 431.401(f)(2). As soon as practicable after the granting of any waiver, DOE will publish in the Federal Register a notice of proposed rulemaking to amend its regulations so as to eliminate any need for the continuation of such waiver. 10 CFR 431.401(l) As soon thereafter as practicable, DOE will publish in the Federal Register a final rule. Id.

When DOE amends the test procedure to address the issues presented in a waiver, the waiver will automatically terminate on the date on which use of that test procedure is required to demonstrate compliance. 10 CFR 431.401(h)(2).

II. Signify's Petition for Waiver

On March 5, 2019, Signify filed a petition for waiver from the test procedure applicable to illuminated exit signs set forth at 10 CFR 431.204. On April 4, 2019, Signify submitted an updated petition, identifying additional basic models.⁴ In its petition, Signify requests a waiver for certain “Chloride by Signify” and “Chloride” branded basic models of illuminated exit signs, typically known as combination exit signs (i.e., they include components such as egress/emergency lighting that require a larger battery than do exit signs that do not have these components).⁵ Signify contends that the design characteristics of these basic models prevent testing in accordance with the DOE test procedure. Signify states that DOE's test method measures the input power required to illuminate the exit signage, and that the test procedure does not contemplate those basic models that include emergency egress lighting. Signify further states that the design of its basic models that incorporate emergency lighting does not allow for a separate measurement of power associated with only the exit signage portion of the models.

⁴ The petition submitted on April 4, 2019 is identical to the March 5, 2019 petition (including the date) except as to the identification of additional basic models, is reprinted at the end of this document.

⁵ The eighteen total basic models identified by Signify are as follows: HZ618RIC, HZ636RIC, HZ672RIC, HZ618R1IC, HZ636R1IC, HZ672R1IC, HZ618R2IC, HZ636R2IC, HZ672R2IC, HZ618GIC, HZ636GIC, HZ672GIC, HZ618G1IC, HZ636G1IC, HZ672G1IC, HZ618G2IC, HZ636G2IC, and HZ672G2IC. However, six of these basic models (HZ618RIC, HZ636RIC, HZ672RIC, HZ618GIC, HZ636GIC, and HZ672GIC) are “no-lamp head” basic models, which are not combination illuminated exit signs (i.e., they do not have egress lighting) and are therefore would not be subject to any waiver, if granted.

III. Requested Alternate Test Procedure

EPCA requires that manufacturers use DOE test procedures when making representations about the energy consumption and energy consumption costs of illuminated exit signs covered by the statute. (42 U.S.C. 6293(c)) Consistent representations are important for manufacturers to use in making representations about the energy efficiency of their illuminated exit signs and to demonstrate compliance with applicable DOE energy conservation standards. Pursuant to its regulations applicable to waivers from applicable test procedures at 10 CFR 431.401, and after consideration of public comments on the petition, DOE will consider setting an alternate test procedure for the equipment identified by Signify in a subsequent Decision and Order.

Signify seeks to use an alternate test procedure to test and rate the specified illuminated exit sign basic models. Signify suggests the alternate test method set forth by DOE in the notice of Decision and Order published in response to a request for waiver by Acuity Brands Lighting for certain illuminated exit sign basic models (case number IES-001; hereafter, Acuity Waiver D&O). 83 FR 11740 (March 16, 2018).

Signify suggests that the following method set forth in the Acuity Waiver DO is applicable to its basic models: Measuring the input power of an equivalent non-combination illuminated exit sign, per the DOE test procedure, and assigning the measured input power to the basic model at issue. 83 FR 11740, 11742. An equivalent non-combination illuminated exit sign is one in which the electricity-consuming components are identical to all of those of the unit whose input power demand is being determined, but one that does not include any auxiliary features, and contains an electrically connected battery. Signify states that the basic models for which the waiver is requested have equivalent non-combination illuminated exit sign basic models.

IV. DOE's Proposed Alternate Test Procedure

DOE has reviewed Signify's application for a waiver, the alternate test procedure requested by Signify, and product specification sheets for the basic models under request for waiver. Six of these basic models are not combination illuminated exit signs, and are therefore would not be subject to any waiver, if granted. The specified basic models that are combination illuminated exit signs provide the dual function of exit signage and lighting for emergency egress. Based on DOE's review of combination exit sign circuitry, DOE has tentatively determined that measuring only the input power attributable to illumination of the exit signage is either not possible, or that doing so would require destructive disassembly such as cutting of wires and modifying the circuitry of the combination exit sign, thereby altering the product being tested.

As mentioned in section III, in its petition Signify suggests the use of the alternate test method set forth in the Acuity Waiver D&O that involves testing equivalent non-combination illuminated exit signs. 83 FR 11740, 11742. DOE has identified equivalent non-combination illuminated exit sign basic models for the basic models listed in Signify's petition for waiver. Hence, for basic models HZ618R1IC, HZ636R1IC, HZ672R1IC, HZ618R2IC, HZ636R2IC, HZ672R2IC, HZ618G1IC, HZ636G1IC, HZ672G1IC, HZ618G2IC, HZ636G2IC, and HZ672G2IC as listed in Signify's petition for waiver, DOE proposes the following alternate test method:

(a) Identify a unit of a non-combination illuminated exit sign (“non-combination unit”) equivalent to the combination unit. A non-combination unit is equivalent only if it consists entirely of electricity-consuming components identical to all of those of the combination unit, but does not include any auxiliary features, and contains an electrically connected battery. The equivalent non-combination unit must also have the same manufacturer and number of faces as the combination unit.

(b) Test the equivalent non-combination unit using the DOE test procedure at 10 CFR part 431, subpart L.

(c) Assign the measured input power demand of the non-combination unit as the input power demand of the combination unit.

Using this method, for each combination illuminated exit sign unit selected, Signify must assign the measured input power demand of a separate corresponding equivalent non-combination unit. For example, if DOE regulations require testing of two units, Signify must identify and measure the input power demand of two equivalent non-combination units, and assign the measured input power of each unit to each of the two combination units, respectively. In those instances where only a single, non-combination unit is available, Signify is required to measure the input power demand of that single unit and assign the measured input power to the combination unit. See generally 10 CFR 429.48(a) and 10 CFR 429.11(b)(2).

Based on this review, the alternate test procedure appears to allow for the accurate measurement of energy consumption of this equipment, while alleviating the testing problems associated with Signify's implementation of illuminated exit sign testing for the basic models specified in its petition.

V. Request for Comments

DOE is publishing Signify's petition for waiver in its entirety, pursuant to 10 CFR 431.401(b)(1)(iv).⁶ The petition includes the basic models for which Signify is requesting the waiver and Signify's suggested alternate test procedure to determine the efficiency of those specified models, as discussed in section III of this document.

⁶ The petition did not identify any of the information contained therein as confidential business information.

DOE invites all interested parties to submit in writing by September 25, 2019, comments and information on all aspects of the petition, including the alternate test procedure. Pursuant to 10 CFR 431.401(d), any person submitting written comments to DOE must also send a copy of such comments to the petitioner. The contact information for the petitioner is Gary Grant, Signify North America Corporation, Tupelo, MS 38804.

Submitting comments via https://www.regulations.gov. The https://www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to https://www.regulations.gov information for which disclosure is restricted by statute, such as trade secrets and commercial or financial information (hereinafter referred to as Confidential Business Information (“CBI”)). Comments submitted through https://www.regulations.gov cannot be claimed as CBI. Comments received through the website will waive any CBI claims for the information submitted. For information on submitting CBI, see the Confidential Business Information section.

DOE processes submissions made through https://www.regulations.gov before posting. Normally, comments will be posted within a few days of being submitted. However, if large volumes of comments are being processed simultaneously, your comment may not be viewable for up to several weeks. Please keep the comment tracking number that https://www.regulations.gov provides after you have successfully uploaded your comment.

Submitting comments via email, hand delivery, or mail. Comments and documents submitted via email, hand delivery, or mail also will be posted to https://www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via mail or hand delivery, please provide all items on a CD, if feasible. It is not necessary to submit printed copies. No facsimiles (faxes) will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery two well-marked copies: One copy of the document marked confidential including all the information believed to be confidential, and one copy of the document marked “non-confidential” with the information believed to be confidential deleted. Submit these documents via email or on a CD, if feasible. DOE will make its own determination about the confidential status of the information and treat it according to its determination.

Factors of interest to DOE when evaluating requests to treat submitted information as confidential include (1) a description of the items, (2) whether and why such items are customarily treated as confidential within the industry, (3) whether the information is generally known by or available from other sources, (4) whether the information has previously been made available to others without obligation concerning its confidentiality, (5) an explanation of the competitive injury to the submitting person which would result from public disclosure, (6) when such information might lose its confidential character due to the passage of time, and (7) why disclosure of the information would be contrary to the public interest.

It is DOE's policy that all comments may be included in the public docket, without change and as received, including any personal information provided in the comments (except information deemed to be exempt from public disclosure).

Signed in Washington, DC, on August 16, 2019.
Alexander N. Fitzsimmons,
Acting Deputy Assistant Secretary for Energy Efficiency, Energy Efficiency and Renewable Energy.

Requestor: Signify North America Corporation

To: U.S. Department of Energy

Building Technologies Program

Test procedure waiver

Date 3/5/2019

Subject: Petition for Waiver from Test Procedure as described in 10 CFR 431, Subpart L for Illuminated Exit Signs

Signify North America Corporation is petitioning for a waiver to the test method described in 10 CFR 430.204 for Illuminated Exit Signs. This waiver request applies to the Chloride by Signify or Chloride branded “HZ” series Combination Exit Sign and Unit Equipment products, otherwise known as Combos. This petition is based on the grounds that the design of this product prevents testing as described in accordance with the designated procedure.

1. This petition for waiver includes Basic model numbers HZ672R2IC and HZ672G2IC and the models listed in the Appendix.

2. These models may be sold under the brand name Chloride or Chloride by Signify. Whereas the provision 10 CFR 430.204 references Energy Star V. 2.0 for the Input Power Measurement test method, that method is for Exit Signs alone and not for these basic models which also incorporate Unit Equipment for emergency lighting. This design does not allow for a seperate measurement for only the Exit Sign portion of the equipment.

3. The manufacturers that distribute models similar to the Chloride by Signify models are:

Acuity Brands

Beghelli

4. We propose using the same alternate test method as described in the DOE Notice of decision and order for Case Number IES-001 and published in the Federal Register/Vol. 83, No. 52/ Friday, March 16, 2018. The order for the alternate method is set forth in Part IV, section (2) (b). Our product design is such that the Exit Sign portion of this Combination Exit Sign and Unit Equipment is equivalent to our basic Exit Sign as described in the DOE guidelines in section (2) (a).

We thank you for your attention to this and we await your response.

Gary Grant

Development Engineer

Exit & Emergency

Signify North America Corporation

Tupelo, MS

662-690-4131

APPENDIX

Models

HZ618RIC 6V, 18W, Red, no Lamp heads

HZ636RIC 6V, 36W, Red, no Lamp heads

HZ672RIC 6V, 72W, Red, no Lamp heads

HZ618R1IC 6V, 18W, Red, 1 Lamp head

HZ636R1IC 6V, 36W, Red, 1 Lamp head

HZ672R1IC 6V, 72W, Red, 1 Lamp head

HZ618R2IC 6V, 18W, Red, 2 Lamp heads

HZ636R2IC 6V, 36W, Red, 2 Lamp heads

HZ672R2IC 6V, 72W, Red, 2 Lamp heads

HZ618GIC 6V, 18W, Green, no Lamp heads

HZ636GIC 6V, 36W, Green, no Lamp heads

HZ672GIC 6V, 72W, Green, no Lamp heads

HZ618G1IC 6V, 18W, Green, 1 Lamp head

HZ636G1IC 6V, 36W, Green, 1 Lamp head

HZ672G1IC 6V, 72W, Green, 1 Lamp head

HZ618G2IC 6V, 18W, Green, 2 Lamp heads

HZ636G2IC 6V, 36W, Green, 2 Lamp heads

HZ672G2IC 6V, 72W, Green, 2 Lamp heads

[FR Doc. 2019-18298 Filed 8-23-19; 8:45 am]

BILLING CODE 6450-01-P